DEPARTMENT OF THE TREASURY

Agency Information Collection Activities; Submission for OMB Review; Comment Request; Bureau of Fiscal Service Information Collection Request.

AGENCY: Departmental Offices, U.S. Department of the Treasury.

ACTION: Notice of information collection; request for comment.

SUMMARY: The Department of the Treasury will submit the following information collection requests to the Office of Management and Budget (OMB) for review and clearance in accordance with the Paperwork Reduction Act of 1995, on or after the date of publication of this notice. The public is invited to submit comments on these requests.

DATES: Comments should be received on or before December 15, 2022 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Melody Braswell by emailing PRA@treasury.gov, calling (202)-622-1035, or viewing the entire information collection request at www.reginfo.gov.

SUPPLEMENTARY INFORMATION:

Bureau of the Fiscal Service (BFS)

Title: Accounts Receivable Forms for Debt Repayment.

OMB Number: 1530-NEW.

Form Number(s): FS Form 000122: Request for Recurring Electronic Payments; FS Form 000123: Financial Statement of Debtor.

Abstract: The principal purpose for gathering this information is to evaluate a debtor's ability to pay their debt and to obtain the debtor's ACH payment information so recurring electronic payments can be set up to pay their debt.

Current Actions: Fiscal Service will insert the new forms into the customer relationship management system, so it can be added to any of the Accounts Receivable Section letters and mailed by Federal Reserve Bank, Minneapolis. The forms are necessary to evaluate the debtor's ability to pay their debt and obtain the debtor's ACH payment information so recurring electronic payments can be set up to pay their debt.

Type of Review: New.

Affected Public: Individuals.

Estimated Number of Respondents: 60 Total (FS Form 000122: 20 responses; FS Form 000123: 40 responses).

Estimated Time per Respondent: FS Form 000122: 15 minutes; FS Form 000123: 45 minutes).

Estimated Total Annual Burden Hours: 35 hours.

Request for Comments: Comments submitted in response to this notice will be summarized and/or included in the request for OMB approval. All comments will become a matter of public record. Comments are invited on: 1. Whether the collection of information is necessary for the proper performance of the functions of the agency, including whether the information shall have practical utility; 2. the accuracy of the agency's estimate of the burden of the collection of information; 3. ways to enhance the quality, utility, and clarity of the information to be collected; 4. ways to minimize the burden of the collection of information on respondents, including through the use of automated collection techniques or other forms of information technology; and 5. estimates of capital or start-up costs and costs of operation, maintenance, and purchase of services to provide information.

Authority: 44 U.S.C. 3501 et seq.

Melody Braswell,
Treasury PRA Clearance Officer.

[FR Doc. 2022-24802 Filed 11-14-22; 8:45 am]

BILLING CODE 4810-AS-P